DEPARTMENT OF DEFENSE

Defense Acquisition Regulations System

48 CFR Parts 204 and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective March 11, 2014.

FOR FURTHER INFORMATION CONTACT: Mr. Manuel Quinones, Defense Acquisition Regulations System, OUSD (AT&L) DPAP (DARS), Room 3B855, 3060 Defense Pentagon, Washington, DC 20301-3060. Telephone 571-372-6088; facsimile 571-372-6094.

SUPPLEMENTARY INFORMATION:

This final rule amends the DFARS as follows:

1. Update the link for DoDAAC queries at 204.7003(a)(1).

2. Remove erroneous text at 204.7403(c).

3. Correct typographical error at 252.204-7004.

List of Subjects in 48 CFR Parts 204 and 252

Government procurement.

Manuel Quinones,
Editor, Defense Acquisition Regulations System.

Therefore, 48 CFR parts 204 and 252 are amended as follows:

1. The authority citation for 48 CFR parts 204 and 252 continues to read as follows:

Authority: 41 U.S.C. 1303 and 48 CFR chapter 1.

PART 204—ADMINISTRATIVE MATTERS

204.7003 [Amended]

2. Section 204.7003, paragraph (a)(1), is amended by removing “https://day2k1.daas.dla.mil/daasinq/ and adding “https://www2.transactionservices.dla.mil/edaasinq/” in its place.

204.7403 [Amended]

3. Section 204.7403, paragraph (c), is amended by removing “, that involve litigation support services and do not include the clause at 252.204-7014, Limitations on the Use or Disclosure of Information by Litigation Support Contractors”.

PART 252—SOLICITATION PROVISIONS AND CONTRACT CLAUSES

252.204-7004 [Amended]

4. Section 252.204-7004 is amended by—

a. Removing the clause date “(MAY 2013)” and adding “(FEB 2014)” in its place.

b. Removing, in paragraph (a), the word “clause” and adding the word “provision” in its place.

[FR Doc. 2014-05205 Filed 3-10-14; 8:45 am]

BILLING CODE 5001-06-P